ENVIRONMENTAL PROTECTION AGENCY

40 CFR Part 52

[EPA-R07-OAR-2013-0674; FRL-9905-02-Region 7]

Approval and Promulgation of Implementation Plans; State of Missouri; Control of Nitrogen Oxide Emissions From Large Stationary Internal Combustion Engines

AGENCY: Environmental Protection Agency (EPA).

ACTION: Proposed rule.

SUMMARY: EPA is proposing to approve a State Implementation Plan (SIP) revision submitted by the State of Missouri to EPA on September 21, 2010, with a supplemental revision submitted on July 3, 2013. The purpose of the SIP revision is to incorporate revisions to a Missouri regulation to control Nitrogen Oxide (NOX) emissions from large stationary internal combustion engines. This revision includes an emission rate limitation for both large stationary diesel and dual fuel internal combustion engines and adds an exemption for compression ignited stationary internal combustion engines that emit 25 tons or less of NOX between May 1 and September 30. EPA has determined that the SIP revision submitted by the State of Missouri satisfies the applicable requirements of the Clean Air Act (CAA or Act), and in particular, the April 21, 2004, final Federal Phase II NOX SIP Call.

DATES: Comments must be received on or before February 7, 2014.

ADDRESSES: Submit your comments identified by Docket ID No. EPA-R07-OAR-2013-0674, by one of the following methods:

1. http://www.regulations.gov. Follow the on-line instructions for submitting comments.

2. Email: kemp.lachala@epa.gov.

3. Mail: Ms. Lachala Kemp, Air Planning and Development Branch, U.S. Environmental Protection Agency, Region 7, Air and Waste Management Division, 11201 Renner Boulevard, Lenexa, Kansas 66219.

4. Hand Delivery or Courier: Deliver your comments to Ms. Lachala Kemp, Air Planning and Development Branch, U.S. Environmental Protection Agency, Region 7, Air and Waste Management Division, 11201 Renner Boulevard, Lenexa, KS 66219.

Instructions: Direct your comments to Docket ID No. EPA-R07-OAR-2013-0674. EPA's policy is that all comments received will be included in the public docket without change and may be made available online at http://www.regulations.gov, including any personal information provided, unless the comment includes information claimed to be Confidential Business Information (CBI) or other information whose disclosure is restricted by statute. Do not submit through http://www.regulations.gov or email information that you consider to be CBI or otherwise protected. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and should be free of any defects or viruses.

Docket: All documents in the electronic docket are listed in the http://www.regulations.gov index. Although listed in the index, some information is not publicly available, i.e., CBI or other information whose disclosure is restricted by statute. Certain other material, such as copyrighted material, will be publicly available only in hard copy. Publicly available docket materials are available either electronically at http://www.regulations.gov or in hard copy at the U.S. Environmental Protection Agency, Region 7, 11201 Renner Boulevard, Lenexa, Kansas 66219 from 8:00 a.m. to 4:30 p.m., Monday through Friday, excluding legal holidays. The interested persons wanting to examine these documents should make an appointment with the office at least 24 hours in advance.

FOR FURTHER INFORMATION CONTACT: Ms. Lachala Kemp, Air Planning and Development Branch U.S. Environmental Protection Agency, Region 7, 11201 Renner Boulevard, Lenexa, KS 66219; telephone number: (913) 551-7214; fax number: (913) 551-7065; email address: kemp.lachala@epa.gov.

SUPPLEMENTARY INFORMATION: Throughout this document, “we,” “us,” or “our” refer to EPA. This section provides additional information by addressing the following questions:

Table of Contents

I. Background for the Proposal

II. Summary of Missouri's SIP Revision

III. EPA's Proposed Action

I. Background for the Proposal

EPA is proposing to approve a State Implementation Plan (SIP) revision submitted by the State of Missouri to EPA on September 21, 2010, with a supplemental revision submitted on July 3, 2013. The purpose of the SIP revision is to incorporate changes to a Missouri regulation (Title 10 of the Code of State Regulations (CSR) 10-6.390) to control Nitrogen Oxide (NOX) emissions from large stationary internal combustion (IC) engines to ensure compliance with the federal NOX control plan to reduce the transport of air pollutants.¹ EPA finalized the second phase (Phase II) of its rule known as the NOX SIP Call Rule on April 21, 2004 (69 FR 21604). Phase II required the eastern one-third of Missouri to participate in the NOX SIP Call and included a provision related to source categories of IC engines. The IC provision established a requirement to decrease emissions from diesel and dual fuel stationary IC engines by ninety percent. 69 FR 21608. Phase II of the NOX SIP Call also required each state in the control region to submit a SIP that contained adequate provisions prohibiting its sources from emitting air pollutants that would contribute significantly to nonattainment, or interfere with maintenance, in one or more downwind states. See, generally, 69 FR at 21608-38.

¹ The effective date of the rule in Missouri was May 30, 2010.

Missouri's rule establishes emissions levels for large stationary internal combustion engines of greater than one thousand three hundred horsepower located in the counties of Bollinger, Butler, Cape Girardeau, Carter, Clark, Crawford, Dent, Dunklin, Franklin, Gasconade, Iron, Jefferson, Lewis, Lincoln, Madison, Marion, Mississippi, Montgomery, New Madrid, Oregon, Pemiscot, Perry, Pike, Ralls, Reynolds, Ripley, St. Charles, St. Francois, St. Louis, Ste. Genevieve, Scott, Shannon, Stoddard, Warren, Washington, and Wayne counties, and the City of St. Louis in Missouri. To be subject to this rule, the IC engines must either have emitted greater than one ton per day of NOX on average during the period from May 1 through September 30 of 1995, 1996 or 1997, or began operations after September 30, 1997. 10 CSR 10-6.390(1)(A), (B).

EPA's analysis of the State's SIP revision is discussed below. As a result of EPA's analysis, we are proposing to approve this request to revise Missouri's SIP and include this 2010 amendment to the Missouri rule.

II. Summary of Missouri's SIP Revision

The Missouri rule establishes emission rate limits using current reporting requirements for both large stationary diesel engines and dual fuel IC engines and adds a twenty five ton NOX exemption.

Any compression ignited stationary engine that begins operation after September 30, 1997, and emits twenty-five (25) tons or less of NOX during the period from May 1 through September 30 is also exempt from certain emission rate limits found at 10 CSR 10-6.390(3)(B)3. and 4. This exemption (hereinafter referred to as the “twenty-five ton NOX exemption”) is based on the previous year's NOX emissions during the May 1 through September 30 period. If the exemption limit is exceeded, for any reason, the engine in question will be required to meet the applicable limits of subsection (3)(B) each year thereafter. The exemption does not apply to the record keeping and reporting requirements of 10 CSR 10-6.390(4).

Section 110(l) of the CAA states that EPA shall not approve a revision of a SIP if the revisions would interfere with any applicable requirement concerning attainment and reasonable further progress, or any other applicable requirement of the CAA. The State's SIP revision included a demonstration that this twenty-five ton NOX exemption for compression ignited stationary IC engines will not adversely impact air quality. The analysis also showed that the exemption will not affect the State's ability to meet its NOX SIP Call obligations.

In this analysis, the State focuses on the eastern one-third of Missouri, which is defined by the Phase II NOX SIP Call. This area is also located south and adjacent to the St. Louis nonattainment area for ozone, which is generally in the path of the predominant wind direction on typical high ozone days. The overall analysis on emissions for the specific area demonstrates that the additional impact of these exempt units on St. Louis ozone and NOX levels is insignificant.

In addition, the State's analysis also demonstrates that for each year since EPA approved its NOX SIP Call budget on August 15, 2006 (71 FR 46860), overall ozone season NOX emissions have been below the State's allowable budget. For utilities, NOX controls—specifically, two selective catalytic reduction units with overfire air, one low-NOX burner with overfire air, and two overfire air NOX control units—have been installed since 2005 in the eastern one-third of Missouri to assist the State with meeting the applicable budgets. Similarly, non-utility boiler and cement kiln NOX emissions have substantially decreased and stayed below the State's allowable budget during this time. Even with the potential amount of additional NOX emissions caused by the twenty-five ton NOX exemption in 10 CSR 10-6.390, the total amount of NOX emissions would still be under the budgeted level. Further details on the State's analysis can be found in the docket for this rulemaking.

In summary, EPA has reviewed the State's analysis and believes that the twenty-five ton NOX exemption in 10 CSR 10-6.390 will not adversely impact air quality and will not affect the State's ability to meet its NOX SIP Call budget obligations.

III. EPA's Proposed Action

In today's rulemaking, EPA is proposing to approve a revision to the Missouri SIP to control NOX emissions from large stationary internal combustion engines. The revisions will also add a NOX exemption for compression ignited stationary internal combustion engines that emit 25 tons or less of NOX during the ozone season. If this level is exceeded, the regular emission rate limits in the regulation would apply. The requirements prescribed in the proposed SIP revision are consistent with the April 21, 2004, final Federal Phase II NOX SIP Call. EPA has determined that the SIP submitted by the State of Missouri satisfies the applicable requirements of the CAA.

Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Intergovernmental relations, Nitrogen oxides, Reporting and recordkeeping requirements.

Dated: December 12, 2013.
Karl Brooks,
Regional Administrator, Region 7.

[FR Doc. 2013-31567 Filed 1-7-14; 8:45 am]

BILLING CODE 6560-50-P